DEPARTMENT OF THE TREASURY

Internal Revenue Service

26 CFR Part 1

[TD 9729]

RIN 1545-BJ42

Basis in Interests in Tax-Exempt Trusts

Correction

In document 2015-19846, appearing on pages 48249 through 48251 in the issue of Wednesday, August 12, 2015, make the following correction:

On page 48249, in the first column, on the eighth line from the bottom, under the heading “DATES:” “August 13, 2015” should read “August 12, 2015”.

[FR Doc. C1-2015-19846 Filed 9-15-15; 8:45 am]

BILLING CODE 1505-01-D